DEPARTMENT OF COMMERCE

Foreign-Trade Zones Board

[B-62-2017]

Correction Notice; Foreign-Trade Zone (FTZ) 127—West Columbia, South Carolina; Authorization of Limited Production Activity; BGM America, Inc.; Subzone 127C (Sailboats, Cabin Cruiser Powerboats, Outboard Motor Boats); Marion, South Carolina

On September 27, 2017, the Richland-Lexington Airport District, grantee of FTZ 127, submitted a notification of proposed production activity to the FTZ Board on behalf of BGM America, Inc., within Subzone 127C, in Marion, South Carolina.

The notification was processed in accordance with the regulations of the FTZ Board (15 CFR part 400), including notice in the Federal Register inviting public comment (82 FR 46216-46217, October 4, 2017). On January 25, 2018, the applicant was notified of the FTZ Board's decision that further review of part of the proposed activity is warranted. The FTZ Board authorized the production activity described in the notification on a limited basis, subject to the FTZ Act and the Board's regulations, including Section 400.14, and further subject to a restriction requiring that the following foreign-sourced materials/components be admitted to the subzone in privileged foreign status (PF) (19 CFR 146.41): Acrylic vessel covers; plastic and woven fabric blinds; woven nylon strips; rubber thread and cord bungee cords; synthetic fiber braided cord cut to length; cotton netting; twine, cordage and rope safety ladders; twine and cordage rope; nylon woven ribbons; marine vinyl composed of polyvinyl chloride, polyester and cotton (coated with over 70 percent polyvinyl chloride); rubberized textile adhesive tape; textile felt seals & gaskets; synthetic fiber curtains; synthetic fiber textile blinds; synthetic fiber table covers; synthetic fiber textile wheel covers; sails of synthetic fibers; cotton dust cloths; polyester web fabric straps; nonwoven fiberglass mats; woven fiberglass with fibers; fiberglass in bulk; mattresses; and, cotton seat cushions and pillows.

Dated: February 5, 2018.
Andrew McGilvray,
Executive Secretary.

[FR Doc. 2018-02630 Filed 2-8-18; 8:45 am]

BILLING CODE 3510-DS-P